DEPARTMENT OF STATE

[Public Notice 8732]

In the Matter of the Amendment of the Designation of al-Qa'ida in Iraq, aka Jam'at al Tawhidwa'al-Jihad, aka The Monotheism and Jihad Group, aka The al-Zarqawi Network, aka al-Tawhid, aka Tanzim Qa`idat al-Jihad fi Bilad al-Rafidayn, aka The Organization of al-Jihad's Base of Operations in Iraq, aka al-Qaida of Jihad in Iraq, aka al-Qaida in Iraq, aka al-Qaida in Mesopotamia, aka al-Qaida in the Land of the Two Rivers, aka al-Qaida of the Jihad in the Land of the Two Rivers, aka al-Qaida of Jihad Organization in the Land of the Two Rivers, aka al-Qaida Group of Jihad in Iraq, aka al-Qaida Group of Jihad in the Land of the Two Rivers, aka The Organization of Jihad's Base in the Country of the Two Rivers, aka The Organization Base of Jihad/Country of the Two Rivers, aka The Organization of al-Jihad's Base in the Land of the Two Rivers, aka The Organization Base of Jihad/Mesopotamia, aka The Organization of al-Jihad's Base of Operations in the Land of the Two Rivers, aka Tanzeem qa'idat al Jihad/Bildad al Raafidaini, aka Islamic State of Iraq, as a Foreign Terrorist Organization Pursuant to Section 219 of the Immigration and Nationality Act, as Amended

Based upon a review of the administrative record assembled in this matter pursuant to Section 219 of the Immigration and Nationality Act, as amended (8 U.S.C. 1189 (“INA”), and in consultation with the Attorney General and the Secretary of the Treasury, I have concluded that there is a sufficient factual basis to find that al-Qa'ida in Iraq, also known under the aliases listed above, uses the additional alias Islamic State of Iraq and the Levant, also known as Islamic State of Iraq and al-Sham, also known as Islamic State of Iraq and Syria, also known as ad-Dawla al-Islamiyya fi al-'Iraq wa-sh-Sham, also known as Daesh, also known as Dawla al Islamiya, also known as Al-Furqan Establishment for Media Production, as its primary name. I have further concluded that there is a sufficient factual basis to find that Al-Nusrah Front, also known as Jabhat al-Nusrah, also known as Jabhet al-Nusra, also known as The Victory Front, also known as Al Nusrah Front for the People of the Levant is no longer part of al-Qa'ida in Iraq.

Therefore, pursuant to Section 219(b) of the INA, as amended (8 U.S.C. 1189(b)), I hereby amend the designation of al-Qa'ida in Iraq as a foreign terrorist organization to include the following new aliases: Islamic State of Iraq and the Levant, also known as Islamic State of Iraq and al-Sham, also known as Islamic State of Iraq and Syria, also known as ad-Dawla al-Islamiyya fi al-'Iraq wa-sh-Sham, also known as Daesh, also known as Dawla al Islamiya, also known as Al-Furqan Establishment for Media Production; and remove the following aliases: Al-Nusrah Front, also known as Jabhat al-Nusrah, also known as Jabhet al-Nusra, also known as The Victory Front, also known as Al Nusrah Front for the People of the Levant.

This determination shall be published in the Federal Register.

Dated: May 7, 2014.
John F. Kerry,
Secretary of State.

[FR Doc. 2014-11210 Filed 5-14-14; 8:45 am]

BILLING CODE 4710-10-P